DEPARTMENT OF JUSTICE

Notice of Lodging of Consent Decree Pursuant to the Clean Water Act

In accordance with Departmental Policy, 28 CFR 50.7, notice is hereby given that a proposed Consent Decree in United States v. Oleander Company, Inc. and Nelson MacRae was lodged with the United States District Court for the Eastern District of North Carolina on December 20, 2001. The proposed Consent Decree concerns alleged violations of sections 301(a), 402, and 404 of the Clean Water Act, 33 U.S.C. 1311(a), 1342 and 1344, resulting from Defendant's unauthorized discharge of pollutants into waters of the United States at a site of New Hanover County, North Carolina, North Carolina.

The proposed Consent Decree would require restoration or mitigation of affected wetlands, filling of ditches, payment of civil penalties totaling $15,000, and preservation of approximately 40 acres of wetlands as part of a Supplemental Environmental Project.

The United States Department of Justice will receive written comments relating to the proposed Consent Decree for a period of thirty (30) days from the date of publication of this Notice. Comments should be faxed to 202.514.8865 to the attention of S. Randall Humm, Attorney, United States Department of Justice, Environmental Defense Section, PO Box 23986, Washington, DC 20026-3986, and should refer to United States v. Oleander Company, Inc. and Nelson MacRae.

The proposed Consent Decree may be examined at the Clerk's Office, United States District Court for the Eastern District of North Carolina, 310 New Bern Avenue, Federal Building, 5th Floor, Raleigh, North Carolina.

Stephen Samuels,
Assistant Chief, Environmental Defense Section, Environment and Natural Resources, Division, United States Department of Justice.

[FR Doc. 02-3069 Filed 2-7-02; 8:45 am]

BILLING CODE 4410-15-M